DEPARTMENT OF ENERGY

[Project No. 2850-015]

Hampshire Paper Company; Notice of Application Accepted for Filing, Soliciting Motions To Intervene and Protests, Ready for Environmental Analysis, and Soliciting Comments, Recommendations, Preliminary Terms and Conditions, and Preliminary Fishway Prescriptions

November 15, 2010.

Take notice that the following hydroelectric application has been filed with the Commission and is available for public inspection.

a. Type of Application: New Major License.

b. Project No.: 2850-015.

c. Date Filed: June 17, 2010.

d. Applicant: Hampshire Paper Company.

e. Name of Project: Emeryville Hydroelectric Project.

f. Location: The existing project is located on the Oswegatchie River in the hamlet of Emeryville, in St. Lawrence County, New York. The project does not occupy federal lands.

g. Filed Pursuant to: Federal Power Act 16 U.S.C. 791(a)-825 (r).

h. Applicant Contact: Michael McDonald, Facility Manager, Hampshire Paper Company, 1827 County Road 22, Gouverneur, NY 13642; Telephone (315) 287-1990.

i. FERC Contact: John Baummer, Telephone (202) 502-6837, and e-mail john.baummer@ferc.gov.

j. Deadline for filing motions to intervene and protests, comments, recommendations, preliminary terms and conditions, and preliminary fishway prescriptions is 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Emeryville Hydroelectric Project consists of: (1) A 16.7-foot-high, 185-foot-long, timber and earth fill gravity dam with a 17-foot-long concrete spillway equipped with 2.4-foot-high flashboards and a 4-foot-wide minimum flow rectangular weir with a minimum elevation of 584.2 feet National Geodetic Vertical Datum (NGVD); (2) a 35-acre reservoir with a normal water surface elevation of 586.6 feet NGVD; (3) a 140-foot-long by 30-foot-wide reinforced concrete intake and headrace structure equipped with four headgates and a trashrack with 5-inch spacing; (4) a 60-foot-long by 14-foot-diameter steel penstock leading to; (5) a 67-foot-long by 32-foot concrete powerhouse containing a horizontal axial flow turbine with a maximum hydraulic capacity of 1,470 cubic feet per second and a net head of 32 feet, directly connected to a horizontal generator unit with a rated capacity of 3,481 kilowatts for an estimated average annual generation of 18.4 million kilowatt-hours; (6) an 80-foot-long, 23-kilovolt transmission line; and (7) appurtenant facilities. The dam and existing project facilities are owned by the applicant. The licensee proposes to continue to operate the project in a run-of-river mode, install staff gages or monuments to verify a proposed minimum flow of 20 cubic feet per second, install seasonal trashracks at the existing intake structure, and modify the existing bypassed reach to enhance downstream fish passage.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item (h) above.

Register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following Hydro Licensing Schedule. Revisions to the schedule may be made as appropriate.

Milestone | Target date
Filing of recommendations, preliminary terms and conditions, and preliminary fishway prescriptions | 60 days from the issuance date of this notice.
Commission issues EA | May 2011.
Comments on EA | June 2011.
Modified terms and conditions | August 2011.

p. Final amendments to the application must be filed with the Commission no later than 30 days from the issuance date of the notice of ready for environmental analysis.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. 2010-29314 Filed 11-19-10; 8:45 am]

BILLING CODE 6717-01-P